DEPARTMENT OF LABOR

Employment and Training Administration

[TA-W-51,014]

Ingersoll-Rand Company, Campbellsville, KY; Notice of Termination of Investigation

Pursuant to section 221 of the Trade Act of 1974, as amended, an investigation was initiated on February 27, 2003 in response to a worker petition filed by a company official on behalf of workers at Ingersoll-Rand Company, Campbellsville, Kentucky.

The petitioner has requested that the petition be withdrawn. Consequently, further investigation would serve no purpose and the investigation has been terminated.

Signed at Washington, DC this 18th day of March, 2003.
Linda G. Poole,
Certifying Officer, Division of Trade Adjustment Assistance.

[FR Doc. 03-7895 Filed 4-1-03; 8:45 am]

BILLING CODE 4510-30-P